FARM CREDIT ADMINISTRATION

Board Action Cancelling Charter of the Farm Credit System Financial Assistance Corporation

AGENCY: Farm Credit Administration.

ACTION: Notice.

SUMMARY: The Farm Credit Administration (FCA or Agency), through the FCA Board, cancelled the charter of the Farm Credit System Financial Assistance Corporation (FAC or Corporation) at the January 11, 2007, Board meeting. The FCA chartered the FAC on January 11, 1988, to carry out a program to provide capital to Farm Credit System (System) institutions that were experiencing financial difficulties, and to assist in the repayment by System institutions to those that provided funds in connection with the program. The FAC discharged all of its responsibilities with respect to the repayment of FAC obligations during June 2005, and as a result, became eligible to terminate its corporate existence.

EFFECTIVE DATE: December 31, 2006.

FOR FURTHER INFORMATION CONTACT: Eric Howard, Senior Policy Analyst, Office of Regulatory Policy, Farm Credit Administration, McLean, Virginia 22102-5090, (703) 883-4481, TTY (703) 883-4056, or Rebecca Orlich, Senior Counsel, Office of General Counsel, Farm Credit Administration, McLean, Virginia 22102-5090, (703) 883-4020, TTY (703) 883-4020.

SUPPLEMENTARY INFORMATION: On January 11, 2007, the FCA Board took action to cancel the charter and corporate existence of the FAC. The text of the Board action is set forth below:

Whereas, on January 11, 1988, the Farm Credit Administration chartered the Farm Credit System Financial Assistance Corporation pursuant to section 6.20, title VI, subtitle B of the Farm Credit Act of 1971, as amended (Act), to carry out a program to provide capital to institutions of the Farm Credit System (System) that were experiencing financial difficulties and to assist in the repayment by System institutions to those that provided funds in connection with the program; and

Whereas, section 6.31 of the Act provides that the Farm Credit System Financial Assistance Corporation will terminate upon the complete discharge of its statutory obligations, but in no event later than 2 years following the maturity and full payment of its debt obligations; and

Whereas, on June 10, 2005, the last remaining debt obligation issued by the Farm Credit System Financial Assistance Corporation matured and was repaid; and

Whereas, on June 10, 2005, all interest advanced by the U.S. Treasury was repaid; and

Whereas, the final audit of the Farm Credit System Financial Assistance Corporation as of September 30, 2005, was completed by PricewaterhouseCoopers, an independent auditor; and

Whereas, on November 14, 2005, the Farm Credit Administration issued to the Farm Credit System Financial Assistance Corporation a final Report of Examination as of September 30, 2005; and

Whereas, the Farm Credit Administration has determined that the Farm Credit System Financial Assistance Corporation has effectively completed its statutory mission, complied with applicable laws and regulations, operated in a safe and sound manner, and thus has fulfilled its statutory obligations and discharged its responsibilities under sections 6.9 and 6.26 of the Act;

Now, therefore, it is hereby ordered that:

The charter of the Farm Credit System Financial Assistance Corporation is hereby cancelled retroactively to December 31, 2006.

Signed by Nancy C. Pellett, Chairman, Farm Credit Administration Board on January 11, 2007.

Dated: January 18, 2007.
Roland E. Smith,
Secretary, Farm Credit Administration Board.

[FR Doc. E7-903 Filed 1-22-07; 8:45 am]

BILLING CODE 6705-01-P